DEPARTMENT OF THE INTERIOR

Bureau of Land Management

[UT-056-1430-DB-24-1A]

AGENCY: Bureau of Land Management, Interior.

ACTION: Notice of Intent to Amend Plan.

SUMMARY: This notice of intent is to advise the public that the Bureau of Land Management (BLM), Richfield Field Office intends to consider a proposal which would require amending an existing planning document. The BLM is proposing to amend the Mountain Valley Management Framework Plan which includes public lands in Piute County, Utah. The purpose of the amendment would be to identify certain lands as suitable for direct sale pursuant to Section 203 of the Federal Land Policy and Management Act of 1976. The lands identified for direct sale comprise 23.09 acres described as follows: T. 30 S., R. 3 W., Section 21, Lots 2 and 5, Salt Lake Meridian, Utah.

DATES: The comment period for this proposed plan amendment will commence with publication of this notice. Comments must be submitted on or before March 2, 2000.

ADDRESSES: Comments on the proposed plan amendment should be sent to Kay Erickson, 150 East 900 North, Richfield, Utah 84701.

Comments, including names and street addresses of respondents will be available for public review at the BLM Richfield Field Office and will be subject to disclosure under the Freedom of Information Act (FOIA). They may be published as part of the Environmental Assessment and other related documents. Individual respondents may request confidentiality. If you wish to withhold your name or street address from public review and disclosure under the FOIA, you must state this prominently at the beginning of your written comment. Such requests will be honored to the extent allowed by law. All submissions from organizations or businesses, and from individuals identifying themselves as representatives or officials of organizations or businesses, will be made available for public inspection in their entirety.

FOR FURTHER INFORMATION CONTACT: Jerry Goodman, Richfield Field Office Manager, 150 East 900 North, Richfield, Utah 84701 or telephone (801)896-1500. Existing planning documents and information are available at the above address.

SUPPLEMENTARY INFORMATION: The existing plan does not identify these lands for disposal. However, because of the resource values and public values and objectives involved, the public interest may well be served by sale of these lands. An environmental assessment will be prepared by an interdisciplinary team to analyze the impacts of this proposal and alternatives.

Douglas M. Koza,
Acting State Director, Utah.

[FR Doc. 00-2073 Filed 1-31-00; 8:45 am]

BILLING CODE 4310-DQ-P